NATIONAL AERONAUTICS AND SPACE ADMINISTRATION

[Notice (07-079)]

Privacy Act of 1974; Privacy Act System of Records

AGENCY: National Aeronautics and Space Administration (NASA).

ACTION: Notice of proposed revisions to an existing Privacy Act system of records.

SUMMARY: Pursuant to the provisions of the Privacy Act of 1974 (5 U.S.C. 552a), the National Aeronautics and Space Administration is issuing public notice of its proposal to combine four of its existing systems of into one new system of records, NASA 10ORIS Occupational Radiation Information System.

This system of records combines GRC 22ORER Glenn Research Center Occupational Radiation Exposure Records, GSFC 51RSCR Goddard Space Flight Center Radiation Safety Committee Records, KSC 76RTES Kennedy Space Center Radiation Training and Experience Summary, and KSC 76XRAD Kennedy Space Center Occupational External Radiation Exposure History for Nuclear Regulatory Commission Licenses. It further expands the system of records to locations and subsystem managers at other NASA installations, and adds greater clarification of categories of individuals covered by the system, categories of records in the system, routine uses, and storage practices. This notice also further elaborates procedures of safeguarding the records, and of their retention and disposal.

DATES: Submit comments 30 calendar days from the date of this publication. This system will be effective as proposed at the end of the comment period unless comments are received which would require a contrary determination.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

NASA 1OORIS

SYSTEM NAME:

Occupational Radiation Information System.

SECURITY CLASSIFICATION:

None.

SYSTEM LOCATION:

Locations 2 through 14 as set forth in Appendix A.

CATEGORIES OF INDIVIDUALS COVERED BY THE SYSTEM:

This system maintains information on NASA civil service employees and applicants; other Agency civil service and military employees working at NASA; International Space Partners personnel who use NASA space or aeronautical vehicles; principal investigators or other visitors to NASA Centers; onsite contractor personnel who handle, use, or are exposed to ionizing or non-ionizing radiation sources and/or devices.

CATEGORIES OF RECORDS IN THE SYSTEM:

Records in the system include, but are not limited to name, date of birth, and social security number contained in: (1) Work history questionnaires and training records, including Nuclear Regulatory Commission (NRC) training and experience documents; (2) Radiation producing source and/or device use authorizing forms; (3) Personnel licenses and/or certifications; (4) Employee radiation levels including medical, background and space radiation exposure and/or calculated radiation levels from Medical records and patient histories; (5) Prenatal exposure counseling and pregnancy declarations.

AUTHORITY FOR MAINTENANCE OF THE SYSTEM:

Atomic Energy Act of 1954, 42 U.S.C. 2011 et seq. 10 CFR Part 20, 29 CFR 1910.1096, and State law and/or State agreement.

ROUTINE USES OF RECORDS MAINTAINED IN THE SYSTEM, INCLUDING CATEGORIES OF USERS AND THE PURPOSES OF SUCH USES:

The following are routine uses: (1) To State oversight agencies, the NRC, and/or Occupational Safety and Health Administration (OSHA) for verification and evidence of regulatory compliance; (2) To agency contractors, grantees, or volunteers who have been engaged to assist the agency in the performance of a contract service, grant, cooperative agreement, or other activity related to this system of records and who need to have access to the records in order to perform their activity; and (3) To International Space Agencies (as appropriate) for data obtained on their national employees who are assigned, detailed and/or participating at a NASA Center or spacecraft and (4) To other Federal agencies including, but not limited to, the Air Force, Environmental Protection Agency (EPA), and Food and Drug Administration (FDA), as evidence of regulatory compliance and (5) In accordance with standard routine uses set forth in Appendix B.

POLICIES AND PRACTICES FOR STORING, RETRIEVING, ACCESSING, AND DISPOSITIONING OF RECORDS IN THE SYSTEM:

STORAGE:

Records in this system are kept under controlled conditions in both physical form in file cabinets and electronic form on NASA work stations and servers.

RETRIEVABILITY:

Records are retrieved from the system by the individual's name.

SAFEGUARDS:

Physical records are secured under locked conditions when not in use. Information system security for workstations and servers housing electronic records is managed in accordance with Federal Information Security Management Act of 2002 (FISMA), 44 U.S.C. 3541

RETENTION AND DISPOSAL:

Records are maintained and destroyed in accordance with NASA Records Retention Schedules (NRRS), Schedule 1 Item 130; and Schedule 8 Item 57, or individual State, NRC or OSHA requirements if longer than those in the NRRS.

SYSTEM MANAGER(S) AND ADDRESS(ES):

Chief Health and Medical Officer, Location 1.

Subsystem Managers: NASA and Contractor Radiation Safety Officers at Locations 2 through 14 as set forth in Appendix A.

NOTIFICATION PROCEDURE:

Information may be obtained from the subsystem managers listed above.

RECORD ACCESS PROCEDURES:

Requests from individuals should be addressed to the same address as stated in the Notification section above.

RECORD AMENDMENT PROCEDURES:

The NASA regulations for access to records and for contesting contents and appealing initial determinations by the individual concerned appear in 14 CFR part 1212.

RECORD SOURCE CATEGORIES:

Individuals themselves, mishap reports, field surveys, licensing and certification authorities, and monitoring device laboratories.

EXEMPTIONS CLAIMED FOR THE SYSTEM:

None.

Submitted by:
Jonathan Q. Pettus,
NASA Chief Information Officer.

Appendix A—Location Numbers and Mailing Addresses of NASA Installations at Which Records Are Located

Location 1

NASA Headquarters, National Aeronautics and Space Administration, Washington, DC 20546-0001

Location 2

Ames Research Center, National Aeronautics and Space Administration, Moffett Field, CA 94035-1000

Location 3

Dryden Flight Research Center, National Aeronautics and Space Administration, PO Box 273, Edwards, CA 93523-0273

Location 4

Goddard Space Flight Center, National Aeronautics and Space Administration, Greenbelt, MD 20771-0001

Location 5

Lyndon B. Johnson Space Center, National Aeronautics and Space Administration, Houston, TX 77058-3696

Location 6

John F. Kennedy Space Center, National Aeronautics and Space Administration, Kennedy Space Center, FL 32899-0001

Location 7

Langley Research Center, National Aeronautics and Space Administration, Hampton, VA 23681-2199

Location 8

John H. Glenn Research Center at Lewis Field, National Aeronautics and Space Administration, 21000 Brookpark Road, Cleveland, OH 44135-3191

Location 9

George C. Marshall Space Flight Center, National Aeronautics and Space Administration, Marshall Space Flight Center, AL 35812-0001

Location 10

HQ NASA Management Office-JPL, National Aeronautics and Space Administration, 4800 Oak Grove Drive, Pasadena, CA 91109-8099

Location 11

John C. Stennis Space Center, National Aeronautics and Space Administration, Stennis Space Center, MS 39529-6000

Location 12

JSC White Sands Test Facility, National Aeronautics and Space Administration, PO Drawer MM, Las Cruces, NM 88004-0020

Location 13

GRC Plum Brook Station, National Aeronautics and Space Administration, Sandusky, OH 44870

Location 14

MSFC Michoud Assembly Facility, National Aeronautics and Space Administration, PO Box 29300, New Orleans, LA 70189

Location 15

NASA Independent Verification and Validation Facility (NASA IV&V), 100 University Drive, Fairmont, WV 26554

Location 16

Office of Inspector General, Post of Duty, 402 E. State Street, Suite 3036, Trenton, NJ 08608

Location 17

Office of Inspector General, Western Field Office, Glenn Anderson Federal Building, 501 West Ocean Blvd., Long Beach, CA 90802-4222

Location 18

NASA Shared Services Center (NSSC), Building 5100, Stennis Space Center, MS 39529-6000

APPENDIX B—STANDARD ROUTINE USES—NASA

The following routine uses of information contained in SORs, subject to the Privacy Act of 1974, are standard for many NASA systems. They are cited by reference in the paragraph “Routine uses of records maintained in the system, including categories of users and the purpose of such uses” of the Federal Register Notice on those systems to which they apply.

Standard Routine Use No. 1—LAW ENFORCEMENT—In the event this system of records indicates a violation or potential violation of law, whether civil, criminal, or regulatory in nature, and whether arising by general statute or particular program statute, or by regulation, rule or order issued pursuant thereto, the relevant records in the SOR may be referred, as a routine use, to the appropriate agency, whether Federal, State, local or foreign, charged with the responsibility of investigating or prosecuting such violation or charged with enforcing or implementing the statute, or rule, regulation or order issued pursuant thereto.

Standard Routine Use No. 2—DISCLOSURE WHEN REQUESTING INFORMATION—A record from this SOR may be disclosed as a “routine use” to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—DISCLOSURE OF REQUESTED INFORMATION—A record from this SOR may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—DISCLOSURE TO THE DEPARTMENT OF JUSTICE FOR USE IN LITIGATION:

A record from this SOR may be disclosed to the Department of Justice when (a) The Agency, or any component thereof; or (b) any employee of the Agency in his or her official capacity; or (c) any employee of the Agency in his or her individual capacity where the Department of Justice or the Agency has agreed to represent the employee; or (d) the United States, where the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

Standard Routine Use 5: ROUTINE USE FOR AGENCY DISCLOSURE IN LITIGATION

It shall be a routine use of the records in this system of records to disclose them in a proceeding before a court or adjudicative body before which the agency is authorized to appear, when: (a) The Agency, or any component thereof; or (b) any employee of the Agency in his or her official capacity; or (c) any employee of the Agency in his or her individual capacity where the Agency has agreed to represent the employee; or (d) the United States, where the Agency determines that litigation is likely to affect the Agency or any of its components, is a party to litigation or has an interest in such litigation, and the use of such records by the Agency is deemed to be relevant and necessary to the litigation, provided, however, that in each case, the Agency has determined that the disclosure is compatible with the purpose for which the records were collected.

Standard Routine Use No. 6—SUSPECTED OR CONFIRMED CONFIDENTIALITY COMPROMISE—A record from this SOR may be disclosed to appropriate agencies, entities, and persons when (1) NASA suspects or has confirmed that the security or confidentiality of information in the system of records has been compromised; (2) NASA has determined that as a result of the suspected or confirmed compromise there is a risk of harm to economic or property interests, identity theft or fraud, or harm to the security or integrity of this system or other systems or programs (whether maintained by NASA or another agency or entity) that rely upon the compromised information; and (3) the disclosure made to such agencies, entities, and persons is reasonably necessary to assist in connection with NASA's efforts to respond to the suspected or confirmed compromise and prevent, minimize, or remedy such harm.

[FR Doc. E7-19268 Filed 9-28-07; 8:45 am]

BILLING CODE 7510-13-P